SURFACE TRANSPORTATION BOARD

[Docket No. FD 36416]

TFG Transport, LLC—Acquisition Exemption—Decatur Central Railroad, LLC

TFG Transport, LLC (TFGT), a noncarrier, has filed a verified notice of exemption under 49 CFR 1150.31 to acquire from Decatur Central Railroad, LLC (DCRR) an approximately 16-mile rail line ¹ extending from milepost 12.11 in Cisco, Ill., to milepost 27.63 in Decatur, Ill. (the Line).²

¹ TGFT states that it will also acquire appurtenant land and ancillary trackage.

² In Decatur Central Railroad—Acquisition & Operation Exemption—Topflight Grain Cooperative, FD 36139 (STB served Sept. 14, 2017), the Line was described as having the same mileposts as TFGT states here and being approximately 15.52 miles long.

According to the verified notice of exemption, TFGT is a subsidiary of Topflight Grain Cooperative, Inc. (Topflight). TFGT states that Topflight and OmniTRAX Holdings Combined, Inc. (the sole members of DCRR) have executed a dissolution agreement to dissolve and distribute the assets of DCRR. TFGT states that pursuant to this dissolution agreement, TFGT will acquire the Line and assume the associated common carrier obligations. TFGT states that while no common carrier operations are currently conducted on the Line, it will provide service as needed through contractual arrangements with third party operators.

TFGT certifies that its projected annual revenues are not expected to exceed $5 million and will not exceed those that would qualify it as a Class III rail carrier. TFGT further certifies that the proposed transaction does not involve any provision or agreement that would limit future interchange with a third-party connecting carrier.

The transaction may be consummated on or after July 16, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than July 9, 2020 (at least seven days before the exemption becomes effective).

All pleadings, referring to Docket No. FD 36416, must be filed with the Surface Transportation Board either via e-filing or in writing addressed to 395 E Street SW, Washington, DC 20423-0001. In addition, a copy of each pleading must be served on TFGT's representative, Deanna S. Mool, Heyl, Royster, Voelker & Allen, 3731 Wabash Avenue, PO Box 9678, Springfield, IL 62791-9678.

According to TFGT, this action is categorically excluded from environmental review under 49 CFR 1105.6(c) and from historic preservation reporting requirements under 49 CFR 1105.8(b)(1).

Board decisions and notices are available at www.stb.gov.

Decided: June 29, 2020.
By the Board, Scott M. Zimmerman, Acting Director, Office of Proceedings.
Eden Besera,
Clearance Clerk.

[FR Doc. 2020-14302 Filed 7-1-20; 8:45 am]

BILLING CODE 4915-01-P